DEPARTMENT OF ENERGY

Federal Energy Regulatory Commission

[Docket No. CP18-534-000]

Notice of Application: Northern Natural Gas Company

Take notice that on July 27, 2018, Northern Natural Gas Company (Northern Natural), 1111 South 103rd Street, Omaha, Nebraska 68124-1000, filed in Docket No. CP18-534-000 an application pursuant to section 7 of the Natural Gas Act (NGA) and Part 157 of the Commission's Regulations, requesting authorization to: (1) Construct and operate certain compressor, pipeline and town border station facilities; (2) upgrade the maximum allowable operating pressure (MAOP) on a segment of an existing branch line and relocate a MAOP regulator; and (3) abandon short segments of pipeline to accommodate tie-ins, all located in various counties in Minnesota (Northern Lights 2019 Expansion Project and Rochester Project). Combined, the projects will increase peak-day service by 138,504 dekatherms per day (Dth/d). Northern Natural is also requesting approval for rolled-in rate treatment for the projects, all as more fully set forth in the application which is on file with the Commission and open to public inspection.

The filing may also be viewed on the web at http://www.ferc.gov using the “eLibrary” link. Enter the docket number excluding the last three digits in the docket number field to access the document. For assistance, please contact FERC Online Support at FERCOnlineSupport@ferc.gov or toll free at (866) 208-3676, or TTY, contact (202) 502-8659.

Any questions concerning this application may be directed to Michael T. Loeffler, Senior Director, Certificates and External Affairs, Northern Natural Gas Company, 1111 South 103rd Street, Omaha, Nebraska 68124, or by calling (402) 398-7103.

Specifically, Northern Natural proposes the following facilities as part of the Northern Lights 2019 Expansion: (1) 10.0-mile-long, 24-inch-diameter pipeline in Hennepin and Wright Counties; (2) 4.3-mile-long, 8-inch-diameter extension of the existing Alexandria branch line loop in Morrison County; (3) 1.6-mile-long, 6-inch-diameter loop of the existing New Prague branch line in Le Sueur County; (4) 3.1-mile-long, 24-inch-diameter extension of the existing Willmar C-line in Carver County; (5) new 11,153 horsepower (HP) Carver compressor station (CS) in Carver County; (6) one additional 15,900 HP compressor unit at Faribault CS in Rice County; and (7) one 15,900 HP compressor unit at Owatonna CS in Steele County. The Northern Lights 2019 Expansion project will allow Northern Natural to deliver 101,411 Dth/d of incremental peak day capacity. The estimated cost for the Northern Lights 2019 Expansion project is $158,070,870.

As part of the Rochester Project, Northern Natural proposes to: (1) Construct and operate a 12.2-mile-long, 16-inch-diameter branch line with a new delivery point at its terminus in Olmsted County; (2) increase the MAOP of an 8-mile-long segment of its 16-inch-diameter La Crosse branch line in Freeborn and Mower Counties; and (3) relocate am existing MAOP control valve assembly from Freeborn County to Mower County. The Rochester Project will generate additional 37,093 Dth/d of incremental peak day service. The estimated cost for the Rochester project is $31,416,479.

On October 16, 2017, the Commission staff granted Northern Natural's request to utilize the Pre-Filing Process and assigned Docket No. PF18-1-000 to staff activities involved for the above referenced projects. Now, as of the filing of the July 30, 2018 application, the Pre-Filing Process for this project has ended. From this time forward, this proceeding will be conducted in Docket No. CP18-534-000, as noted in the caption of this Notice.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the EA for this proposal. The filing of the EA in the Commission's public record for this proceeding or the issuance of a Notice of Schedule for Environmental Review will serve to notify federal and state agencies of the timing for the completion of all necessary reviews, and the subsequent need to complete all federal authorizations within 90 days of the date of issuance of the Commission staff's EA.

There are two ways to become involved in the Commission's review of this project. First, any person wishing to obtain legal status by becoming a party to the proceedings for this project should, on or before the comment date stated below, file with the Federal Energy Regulatory Commission, 888 First Street NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit five copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit original and five copies of the protest or intervention to the Federal Energy Regulatory Commission, 888 First Street NE, Washington, DC 20426.

Comment Date: 5:00 p.m. Eastern Time on August 31, 2018.

Dated: August 10, 2018.
Nathaniel J. Davis, Sr.,
Deputy Secretary.

[FR Doc. 2018-17652 Filed 8-15-18; 8:45 am]

BILLING CODE 6717-01-P